DEPARTMENT OF COMMERCE

Census Bureau

Agency Information Collection Activities; Submission to the Office of Management and Budget (OMB) for Review and Approval; Comment Request; School District Review Program

AGENCY: Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed revision of the School District Review Program, prior to the submission of the information collection request (ICR) to OMB for approval.

DATES: To ensure consideration, comments regarding this proposed information collection must be received on or before February 5, 2024.

ADDRESSES: Interested persons are invited to submit written comments by email to Michael S. Snow at dcmd.pra@census.gov. Please reference “School District Review Program” in the subject line of your comments. You may also submit comments, identified by Docket Number USBC-2023-0010, to the Federal e-Rulemaking Portal: https://www.regulations.gov. All comments received are part of the public record. No comments will be posted to https://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael S. Snow, Program Manager, by phone at 301-763-9912 or by email to dcmd.pra@census.gov.

SUPPLEMENTARY INFORMATION:

I. Abstract

The School District Review Program (SDRP) is a U.S. Department of Education National Center for Education Statistics (NCES) sponsored program conducted annually by the U.S. Census Bureau. It is of vital importance for each state's allocation under title I of the Elementary and Secondary Education Act as amended by Every Student Succeeds Act of 2015, Public Law 114-95. School district information submitted through this program, along with the decennial census population, Small Area Income and Poverty Estimates, and current population estimates, are used in forming the Census Bureau's estimates of the number of children ages 5 through 17 in families in poverty for each school district. The U.S Department of Education uses these estimates to allocate more than $16 billion annually in Title I funds.

The SDRP encompasses the review of Type 1, Type 2, and Type 3 school districts as defined by the NCES. Type 1 is a local school district that is not a component of a supervisory union. Type 2 is a local school district component of a supervisory union sharing a superintendent and administrative services with other local school districts. Type 3 is an education agency that performs administrative services for more than one school district, providing a common superintendent for participating districts.

Respondents to the SDRP are the mapping coordinators and Title I Coordinators from the fifty states and the District of Columbia. NCES also anticipates the inclusion of the Commonwealth of Puerto Rico in the next three years. Mapping coordinators are designated by the state departments of education and are tasked with reviewing and providing updates for school district boundaries, federal school district local education agency codes, names, grade ranges, and levels to the Census Bureau. Title I Coordinators are responsible for overseeing the SDRP and reviewing all materials.

There are two phases to the SDRP: the Annotation Phase and Verification Phase. During the Annotation Phase, the Census Bureau provides mapping coordinators with materials containing the latest school district boundaries and school district information that the Census Bureau has on file for their state. Mapping coordinators review the data and submit any changes to the Census Bureau. The Census Bureau reviews and processes the information submitted by the mapping coordinator and updates the Master Address File/Topologically Integrated Geographic Encoding and Reference (MAF/TIGER) System. During the Verification Phase, mapping coordinators verify that the Census Bureau updated the MAF/TIGER System accurately and completely with updates submitted during the Annotation Phase.

II. Method of Collection

Annotation Phase

In the Annotation Phase, mapping coordinators gather school district updates from sources within the state, e.g., local school district officials, counties, and state agencies. They use Census Bureau-provided materials to review and update school district boundaries, names, codes, and geographic relationships. The Census Bureau provides mapping coordinators with school district listings, spatial data in Esri shapefile format, blank submission logs, and Geographic Update Partnership Software (GUPS). The school district listings consist of school district inventories, school district names, levels, grade ranges, and other data about school districts within their state. If the mapping coordinator has non-spatial updates (e.g., name changes, simple consolidations, simple dissolutions, and others), the mapping coordinator updates the Census Bureau provided submission log with those changes. If a mapping coordinator needs to perform spatial updates to a school district boundary, the mapping coordinator uses Census Bureau provided GUPS and spatial data to make updates. GUPS is a free, customized geographic information system application provided by the Census Bureau for mapping coordinators. It is available on the web and as a standalone application that can be installed by a user and contains all functionality necessary for mapping coordinators to make and validate their spatial school district updates. Once mapping coordinators have reviewed and updated the school district information for their state, the mapping coordinator sends it to the Census Bureau, using the Secure Web Incoming Module, the Census Bureau's online application for uploading SDRP submissions. The Census Bureau will update the MAF/TIGER System with the updates sent by the mapping coordinator.

Schedule

• The SDRP Annotation Phase begins in September of each year.

• The SDRP Annotation Phase submission deadline is the last workday in December of each year.

Verification Phase

In the Verification Phase, the Census Bureau sends mapping coordinators newly created listings and digital files, and mapping coordinators use the SDRP verification module in GUPS to review these files and verify that the Census Bureau correctly captured their submitted information. The mapping coordinator can tag the area of issue and send the information to the Census Bureau to make corrections if the Census Bureau did not incorporate their boundary changes or other updates correctly. The Census Bureau does not accept new changes during the Verification Phase.

Schedule

• The SDRP Verification Phase begins and ends in April of each year.

Feedback

The Census Bureau may solicit feedback from respondents to improve the administration of the program and potentially reduce the future burden. Respondents may be asked to provide feedback on materials, manner of data collection, manner of respondent communications, and the usability of our program applications and tools.

III. Data

OMB Control Number: 0607-0987.

Form Number(s): None.

Type of Review: Regular submission, request for a revision of a currently approved collection.

Affected Public: All fifty States, the District of Columbia, and the Commonwealth of Puerto Rico.

Estimated Number of Respondents:

• Annotation Phase: 52.

• Verification Phase: 52.

• Feedback: 52.

Estimated Time Per Response:

• Annotation Phase: 30 hours.

• Verification Phase: 10 hours.

• Feedback: 1 hour.

Estimated Total Annual Burden Hours: 2,132.

• Annotation Phase: 1,560 hours.

• Verification Phase: 520 hours.

• Feedback: 52 hours.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. 16, 141, and 193.

NCES Legal Authority: Title I, part A of the Elementary and Secondary Education Act as amended by Every Student Succeeds Act of 2015, Public Law (Pub. L.) 114-95.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-26732 Filed 12-5-23; 8:45 am]

BILLING CODE 3510-07-P